FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 26, 2005.

A. Federal Reserve Bank of St. Louis (Glenda Wilson, Community Affairs Officer) 411 Locust Street, St. Louis, Missouri 63166-2034::

1. Magers Family Irrevocable Trust, Springfield, Missouri (“Trust”), to acquire voting shares of Marshfield Investment Company, Springfield, Missouri (“Marshfield”), and thereby indirectly acquire voting shares of Metropolitan National Bank, Springfield, Missouri. Also, a control group consisting of Trust and its trustees, William B. Magers and Randall W. Magers, both of Springfield, Missouri, to increase their aggregate control of Marshfield.

Board of Governors of the Federal Reserve System, January 6, 2005.
Robert deV. Frierson,
Deputy Secretary of the Board.

[FR Doc. 05-519 Filed 1-10-05; 8:45 am]

BILLING CODE 6210-01-S